ENVIRONMENTAL PROTECTION AGENCY

40 CFR Parts 52 and 81

[CA 118-PLANb; FRL-7641-6]

Approval and Promulgation of Implementation Plans, Finding of Attainment, and Designation of Areas for Air Quality Planning Purposes; 1-Hour Ozone Standard, East Kern County, California

AGENCY: Environmental Protection Agency (EPA).

ACTION: Proposed rule.

SUMMARY: EPA is proposing to find that East Kern County, California, has attained the 1-hour ozone National Ambient Air Quality Standard (NAAQS). EPA is proposing to approve the East Kern County 1-hour ozone maintenance plan and motor vehicle emissions budgets as revisions to the East Kern County portion of the California State Implementation Plan (SIP). Finally, EPA is proposing to redesignate the East Kern County area to attainment for the 1-hour ozone NAAQS.

DATES: Any comments on this proposal must arrive by May 24, 2004.

ADDRESSES: Send comments to Dave Jesson (AIR-2), U.S. Environmental Protection Agency, Region IX, 75 Hawthorne Street, San Francisco, CA 94105-3901, or e-mail to jesson.david@epa.gov, or submit comments at http://www.regulations.gov.

You can inspect copies of the submitted SIP revisions and public comments at our Region IX office during normal business hours by appointment. You may also see copies of the submitted SIP revisions by appointment at the following locations:

California Air Resources Board, 1001 I Street, Sacramento, CA 95814;

Kern County Air Pollution Control District, 2700 M Street, Suite 302, Bakersfield, CA 93301-2370.

FOR FURTHER INFORMATION CONTACT: Dave Jesson, EPA Region IX, (415) 972-3957, or jesson.david@epa.gov.

SUPPLEMENTARY INFORMATION: In accordance with Clean Air Act (CAA) section 181(b)(2)(A), we are proposing to find that East Kern County, California, has attained the 1-hour ozone National Ambient Air Quality Standard (NAAQS). We are proposing to approve the East Kern County 1-hour ozone maintenance plan as revisions to the East Kern County portion of the California State Implementation Plan (SIP), under CAA sections 175A and 110(k)(3), and we are proposing to approve the motor vehicle emissions budgets in the maintenance plan under CAA section 176(c)(2). Finally, we are proposing to redesignate the East Kern County area to attainment for the 1-hour ozone NAAQS under CAA section 107(d)(3)(E).

In the rules and regulations section of this Federal Register, we are making this finding, approving the maintenance plan and budgets, and redesignating the East Kern County area to attainment for the 1-hour ozone NAAQS in a direct final action without prior proposal because we believe that these actions are not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: March 19, 2004.
Laura Yoshii,
Acting Regional Administrator, Region IX.

[FR Doc. 04-9037 Filed 4-21-04; 8:45 am]

BILLING CODE 6560-50-P